DEPARTMENT OF HEALTH AND HUMAN SERVICES

Office of the Secretary

[Document Identifier: 0990-0452-30D]

Agency Information Collection Activities; Submission to OMB for Review and Approval; Public Comment Request

AGENCY: Office of the Secretary, HHS.

ACTION: Notice.

SUMMARY: In compliance with section 3507(a)(1)(D) of the Paperwork Reduction Act of 1995, the Office of the Secretary (OS), Department of Health and Human Services, has submitted an Information Collection Request (ICR), described below, to the Office of Management and Budget (OMB) for review and approval. The ICR is for revision of the approved information collection assigned OMB control number 0990-0452, scheduled to expire on January 31, 2020. Comments submitted during the first public review of this ICR will be provided to OMB. OMB will accept further comments from the public on this ICR during the review and approval period.

DATES: Comments on the ICR must be received on or before May 24, 2017.

ADDRESSES: Submit your comments to OIRA_submission@omb.eop.gov or via facsimile to (202) 395-5806.

FOR FURTHER INFORMATION CONTACT: Information Collection Clearance staff, Information.CollectionClearance@hhs.gov or (202) 690-5683.

SUPPLEMENTARY INFORMATION: When submitting comments or requesting information, please include the OMB control number 0990-0452 for reference.

Information Collection Request Title: Federal Evaluation of Making Proud Choices! (MPC!)

OMB No.: 0990-0452

Abstract: The Office of Adolescent Health (OAH), U.S. Department of Health and Human Services (HHS) is requesting approval by OMB on a revised data collection. The Federal Evaluation of Making Proud Choices! (MPC!) will provide information about program design, implementation, and impacts through a rigorous assessment of a highly popular teen pregnancy prevention curriculum—MPC. This revision to this information collection request includes the follow-up survey instrument, administered approximately 9 and 15 months post baseline, and related to the impact study. The evaluation will be conducted in 39 schools nationwide. The data collected from this instrument will provide a detailed understanding of program impacts. Clearance is requested for three years.

Need and Proposed Use of the Information: The follow-up survey data will be used to determine program effectiveness by comparing sexual behavior outcomes, such as postponing sexual activity, and reducing or preventing sexual risk behaviors and STDs and intermediate outcomes, such as improving exposure, knowledge and attitudes between treatment (program) and control youth.

The findings from these analyses of program impacts will be of interest to the general public, to policymakers, and to schools and other organizations interested in supporting teen pregnancy prevention.

Likely Respondents: The follow-up surveys will be administered to study participants, who will primarily be in 10th-12th grade at the time of the follow-up surveys.

The total annual burden hours estimated for this ICR are summarized in the table below.

Total Estimated Annualized Burden—Hours
Form name | Number of respondents | Number of responses per respondent | Average burden per response (in hours) | Total burden hours
Follow up survey (9 months post baseline) | 819 | 1 | 30/60 | 409.5
Follow up survey (15 months post baseline) | 774 | 1 | 30/60 | 387
Total | 1593 |  |  | 796.5

Terry S. Clark,
Asst Information Collection Clearance Officer.

[FR Doc. 2017-08200 Filed 4-21-17; 8:45 am]

BILLING CODE 4168-11-P